SOCIAL SECURITY ADMINISTRATION

20 CFR Part 498

[Docket No. SSA-2006-0044]

Applicability of Amendment—Additional Instances Where Civil Monetary Penalties and/or Assessments Can Be Imposed

AGENCY: Office of the Inspector General (OIG), Social Security Administration (SSA).

ACTION: Announcement of applicability date.

SUMMARY: This document announces that on November 27, 2006, the Commissioner of Social Security (Commissioner) implemented the centralized computer file described in section 202 of the Social Security Protection Act of 2004 (SSPA). Until this centralized computer file was implemented, the portion of the final rules published on May 17, 2006, at 71 FR 28574, relating to the imposition of civil monetary penalties and/or assessments for withholding of information from, or failure to disclose information to, SSA, was not in effect.

DATES: The amendment to 20 CFR 498.102(a)(3) published May 17, 2006 (71 FR 28574) became applicable November 27, 2006.

FOR FURTHER INFORMATION CONTACT: Kathy A. Buller, Chief Counsel to the Inspector General, Social Security Administration, Office of the Inspector General, Room 3-ME-1, 6401 Security Boulevard, Baltimore, MD 21235-6401, (410) 965-2827. For information on eligibility or filing for benefits, call our national toll-free number, 1-800-772-1213 or TTY 1-800-325-0778, or visit our Internet Web site, Social Security Online, at http://www.socialsecurity.gov.

SUPPLEMENTARY INFORMATION: Section 201(a)(1) of the SSPA, Public Law 108-203, amended section 1129 of the Social Security Act (Act) (42 U.S.C. 1320a-8), to allow for the imposition of civil monetary penalties and/or assessments for the withholding of information from, or failure to disclose information to, SSA.

Pursuant to section 201(d) of the SSPA, this amendment to section 1129 of the Act “shall apply with respect to violations committed after the date on which the Commissioner of Social Security implements the centralized computer file described in section 202” of the SSPA. Section 202 of the SSPA provided for the implementation by the Commissioner of “a centralized computer file recording the date of the submission of information by a disabled beneficiary (or representative) regarding a change in the beneficiary's work or earnings status.”

On May 17, 2006, at 71 FR 28574, the OIG published the final rules reflecting and implementing the amendments to sections 1129 and 1140 of the Social Security Act made by the SSPA and Public Law 106-169, the Foster Care Independence Act of 1999, including section 201(a)(1) of the SSPA. At that time we stated the following regarding the implementation of section 201(a) of the SSPA:

Applicability Date: Section 498.102(a)(3), as it relates to the withholding of information from, or failure to disclose information to, SSA, will be applicable upon implementation of the centralized computer file described in section 202 of Public Law 108-203. If you want information regarding the applicability date of this provision, call or write the SSA contact person. SSA will publish a document announcing the applicability date in a subsequent Federal Register document. The remainder of § 498.102(a)(3), currently in effect, is unaffected by this delay.

On November 27, 2006, SSA fully implemented the centralized computer file described in section 202 of the SSPA. Therefore, pursuant to the requirements of section 201 of the SSPA and the final rules published at 71 FR 28574, this notice announces that 20 CFR 498.102(a)(3), as it relates to the withholding of information from, or failure to disclose information to, SSA, is applicable to violations committed after November 27, 2006.

Dated: April 23, 2007.
Patrick P. O'Carroll, Jr.,
Inspector General, Social Security Administration.

[FR Doc. E7-9228 Filed 5-15-07; 8:45 am]

BILLING CODE 4191-02-P